DEPARTMENT OF ENERGY

Federal Energy Regulatory Commission

Combined Notice of Filings #1

Take notice that the Commission received the following electric corporate filings:

Docket Numbers: EC22-121-000; EC22-127-000.

Applicants: Desert Harvest II LLC, Desert Harvest, LLC, Milligan 1 Wind LLC, BigBeau Solar LLC, BigBeau Solar, LLC.

Description: Response to October 27, 2022 Deficiency Letter of BigBeau Solar, LLC et al.

Filed Date: 11/3/22.

Accession Number: 20221103-5184.

Comment Date: 5 p.m. ET 11/14/22.

Docket Numbers: EC23-23-000.

Applicants: ENBALA Power Networks (USA), Inc.

Description: Application for Authorization Under Section 203 of the Federal Power Act of ENBALA Power Networks (USA) Inc.

Filed Date: 11/3/22.

Accession Number: 20221103-5186.

Comment Date: 5 p.m. ET 11/25/22.

Take notice that the Commission received the following electric rate filings:

Docket Numbers: ER23-376-000.

Applicants: Oak Solar, LLC.

Description: Baseline eTariff Filing: Co-Tenancy and Shared Facilities Agreement to be effective 12/31/2022.

Filed Date: 11/4/22.

Accession Number: 20221104-5133.

Comment Date: 5 p.m. ET 11/25/22.

Docket Numbers: ER23-377-000.

Applicants: PJM Interconnection, L.L.C.

Description: § 205(d) Rate Filing: Original NSA, Service Agreement No. 6691; Queue No. AD2-115 to be effective 10/6/2022.

Filed Date: 11/7/22.

Accession Number: 20221107-5023.

Comment Date: 5 p.m. ET 11/28/22.

Docket Numbers: ER23-378-000.

Applicants: PJM Interconnection, L.L.C.

Description: § 205(d) Rate Filing: ISA, Original SA No. 6667; Queue No. AE1-157 to be effective 10/7/2022.

Filed Date: 11/7/22.

Accession Number: 20221107-5043.

Comment Date: 5 p.m. ET 11/28/22.

Docket Numbers: ER23-379-000.

Applicants: EWO Marketing, LLC.

Description: § 205(d) Rate Filing: SRPSA Capacity Rate Adjustment to be effective 1/1/2023.

Filed Date: 11/7/22.

Accession Number: 20221107-5057.

Comment Date: 5 p.m. ET 11/28/22.

Docket Numbers: ER23-380-000.

Applicants: PacifiCorp.

Description: § 205(d) Rate Filing: Tri-State—Heward Interconnection Agrmt to be effective 1/7/2023.

Filed Date: 11/7/22.

Accession Number: 20221107-5067.

Comment Date: 5 p.m. ET 11/28/22.

Docket Numbers: ER23-381-000.

Applicants: Midcontinent Independent System Operator, Inc.

Description: § 205(d) Rate Filing: 2022-11-07_SA 3393 Ameren IL-Sapphire Sky Wind 3rd Rev GIA (J826 J1022) to be effective 10/27/2022.

Filed Date: 11/7/22.

Accession Number: 20221107-5068.

Comment Date: 5 p.m. ET 11/28/22.

Docket Numbers: ER23-382-000.

Applicants: Tri-State Generation and Transmission Association, Inc.

Description: Tariff Amendment: Notice of Cancellation of Rate Schedule FERC No. 252 to be effective 12/31/2022.

Filed Date: 11/7/22.

Accession Number: 20221107-5084.

Comment Date: 5 p.m. ET 11/28/22.

Docket Numbers: ER23-383-000.

Applicants: NorthWestern Corporation.

Description: § 205(d) Rate Filing: RS 325 Revised and Amended LGIA to be effective 11/8/2022.

Filed Date: 11/7/22.

Accession Number: 20221107-5085.

Comment Date: 5 p.m. ET 11/28/22.

Docket Numbers: ER23-384-000.

Applicants: Tri-State Generation and Transmission Association, Inc.

Description: § 205(d) Rate Filing: Initial Filing of Rate Schedule FERC No. 350 to be effective 11/8/2022.

Filed Date: 11/7/22.

Accession Number: 20221107-5086.

Comment Date: 5 p.m. ET 11/28/22.

Docket Numbers: ER23-385-000.

Applicants: Tri-State Generation and Transmission Association, Inc.

Description: § 205(d) Rate Filing: Amendment to Rate Schedule FERC No. 6 to be effective 1/3/2022.

Filed Date: 11/7/22.

Accession Number: 20221107-5087.

Comment Date: 5 p.m. ET 11/28/22.

Docket Numbers: ER23-386-000.

Applicants: PJM Interconnection, L.L.C.

Description: § 205(d) Rate Filing: ISA, Original SA No. 6671; Queue No. AF1-038 to be effective 10/7/2022.

Filed Date: 11/7/22.

Accession Number: 20221107-5137.

Comment Date: 5 p.m. ET 11/28/22.

Take notice that the Commission received the following electric securities filings:

Docket Numbers: ES23-5-000.

Applicants: New Hampshire Transmission, LLC.

Description: Application Under Section 204 of the Federal Power Act for Authorization to Issue Securities of New Hampshire Transmission, LLC.

Filed Date: 11/3/22.

Accession Number: 20221103-5185.

Comment Date: 5 p.m. ET 11/25/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 7, 2022.
Debbie-Anne A. Reese,
Deputy Secretary.

[FR Doc. 2022-24698 Filed 11-10-22; 8:45 am]

BILLING CODE 6717-01-P